NATIONAL AERONAUTICS AND SPACE ADMINISTRATION

[Notice: 15-095]

Aerospace Safety Advisory Panel; Charter Renewal

AGENCY: National Aeronautics and Space Administration (NASA).

ACTION: Notice of renewal and amendment of the charter of the Aerospace Safety Advisory Panel.

SUMMARY: Pursuant to sections 14(b)(1) and 9(c) of the Federal Advisory Committee Act (Pub. L. 92-463), and after consultation with the Committee Management Secretariat, General Services Administration, the NASA Administrator has determined that renewal and amendment of the charter of the Aerospace Safety Advisory Panel (ASAP) is in the public interest in connection with the performance of duties imposed on NASA by law. The renewed charter is for a two-year period ending August 26, 2017. It is identical to the previous charter in all respects except that it updates the reference to legal authority.

FOR FURTHER INFORMATION CONTACT: Ms. Marian Norris, ASAP Administrative Officer, Advisory Committee Management Division, Office of International and Interagency Relations, NASA Headquarters, Washington, DC 20546; phone: (202) 358-4452; email: mnorris@nasa.gov.

Patricia D. Rausch,
Advisory Committee Management Officer, National Aeronautics and Space Administration.

[FR Doc. 2015-26784 Filed 10-21-15; 8:45 am]

BILLING CODE 7510-13-P